DEPARTMENT OF DEFENSE

Department of the Air Force

Intent To Grant An Exclusive Patent License

ACTION: Notice.

SUMMARY: Pursuant to the provisions of Part 404 of Title 37, Code of Federal Regulations, which implements Public Law 96-517, as amended; the Department of the Air Force announces its intention to grant Massachusetts Institute of Technology, a Massachusetts corporation having a place of business at 77 Massachusetts Avenue, Cambridge, MA 02139, an exclusive license limited to the field of footwear in any right, title, and interest of the Air Force in: U.S. Application No. 12/599,465, entitled “TUNABLE SURFACES,” by Wonjae Choi, Robert E. Cohen, Joseph M. Mabry, Gareth H. McKinley, and Anish Tuteja, which was published on 16 December 2010 as U.S. Application Publication No. 2010/0316842; and U.S. Application No. 13/734,446, entitled “LIQUID REPELLENT SURFACES,” by Robert E. Cohen, Joseph M. Mabry, Gareth H. McKinley, and Adam James Meuler, which was published on 11 July 2013 as U.S. Application Publication No. 2013/0178568; who intends to further grant an exclusive license limited to the field of footwear in any right, title, and interest of itself to NBD Nanotechnologies, Inc., a Massachusetts corporation having a place of business at 41 Sherwood Ave., Danvers, MA 01923.

The Air Force intends to grant a license for the pending applications unless a written objection is received within fifteen (15) calendar days from the date of publication of this Notice. Written objection should be sent to: Air Force Materiel Command Law Office, AFMCLO/JAZ, 2240 B Street, Room 101, Wright-Patterson AFB, OH 45433-7109; Facsimile: (937) 255-3733.

Henry Williams,
Acting Air Force Federal Register Liaison Officer.

[FR Doc. 2014-13036 Filed 6-4-14; 8:45 am]

BILLING CODE 5001-10-P